DEPARTMENT OF COMMERCE

Bureau of the Census

15 CFR Part 30

[Docket Number: 090422707-9708-01]

RIN 0607-AA48

Foreign Trade Regulations (FTR): Eliminate the Social Security Number (SSN) as an Identification Number in the Automated Export System (AES)

AGENCY: Bureau of the Census, Commerce Department.

ACTION: Interim final rule with request for comments.

SUMMARY: The U.S. Census Bureau (Census Bureau) is amending the Foreign Trade Regulations (FTR) to eliminate the requirement to report a Social Security Number (SSN) as an identification number when registering to file and filing electronic export information in the Automated Export System (AES) or AESDirect. Under the current regulations, the U.S. Principal Party in Interest (USPPI) or U.S. authorized agent residing or having an office located in the United States is required to enter an Employer Identification Number (EIN), SSN, or Dun and Bradstreet Number (DUNS) when reporting export transactions in the AES or AESDirect. An SSN is used as an identification number principally by filers who are individuals. DUNS are available only to business entities, and EINs are available to both businesses and individuals.

Upon implementation of this Interim Final Rule, if the USPPI or the U.S. authorized agent who resides or has an office located in the United States does not have an EIN, the USPPI, or U.S. authorized agent must obtain an EIN through the Internal Revenue Service's Web site. Former SSN filers who want to use a DUNS rather than an EIN for identification purposes, must first obtain an EIN from the IRS and apply to Dun & Bradstreet for a DUNS. This rule is being implemented to ensure that a USPPI's or U.S. authorized agent's SSN is protected in accordance with the Privacy Act of 1974, Title 5, United States Code, Section 552a.

DATES: Effective Date: This rule is effective September 4, 2009. Implementation Date: The Census Bureau will implement provisions of this rule December 3, 2009.

Comment Due Date: Comments on the interim rule should be submitted in writing to the address shown below on or before October 5, 2009 to be considered in the formation of the final rule.

ADDRESSES: You may submit your comments to: William G. Bostic, Jr., Chief, Foreign Trade Division, U.S. Census Bureau, 4600 Silver Hill Road, Room 6K032, Washington, DC 20233-6700; by telephone at (301) 763-2255; by fax at (301) 763-6638; or by e-mail: william.g.bostic.jr@census.gov.

FOR FURTHER INFORMATION CONTACT: William G. Bostic, Jr., Chief, Foreign Trade Division, U.S. Census Bureau, 4600 Silver Hill Road, Room 6K032, Washington, DC 20233-6700; by telephone at (301) 763-2255; by fax at (301) 763-6638; or by e-mail: william.g.bostic.jr@census.gov.

SUPPLEMENTARY INFORMATION:

Background

The Census Bureau is responsible for collecting, compiling, and publishing export and import trade statistics for the United States under the provisions of Title 13, United States Code (U.S.C.), Chapter 9, Section 301(a). To implement this responsibility, the Census Bureau developed the Automated Export System ¹ (AES), an electronic filing system, to allow exporters to submit certain information directly with U.S. Customs Border and Protection (CBP) and the Census Bureau. The AES is also used for export control purposes to detect and prevent the export of certain items by unauthorized parties, destinations or end users. Under the FTR, 15 CFR 30.60(e), this information is exempt from public disclosure unless the Secretary of Commerce or his designee, the Director of the Census Bureau, determines that withholding such information would be contrary to the national interest under the provisions of Title 13, U.S.C., Chapter 9, Section 301(g).

¹ References to AES include the AESDirect, a free online version of the AES.

Through the AES, the Census Bureau collects Electronic Export Information (EEI), the electronic equivalent of the export data formerly collected on the Shipper's Export Declaration. EEI consists of data elements for an export shipment, and includes information such as the exporter's personal identifying information, which includes name, address and identification number, and detailed information concerning the exported product.

Pursuant to the requirements of the Privacy Act of 1974 (5 U.S.C. 552a) and guidance from the Office of Management and Budget (OMB), the Census Bureau is amending its regulations to discontinue the collection of the Social Security Number when reporting EEI through the AES or other authorized method. Upon implementation of this rule, the AES will no longer provide the option for using the Social Security Number as an identification number. All USPPIs and U.S. authorized agents who currently report a SSN when filing in the AES, because they do not have or use an EIN or DUNS number, must provide an EIN or DUNS number for identification purposes. EINs are available to both businesses and individuals and can be obtained by registering with the Internal Revenue Service (IRS) at http://www.irs.gov or by calling (800) 829-4933 and following the instructions. A DUNS number is available only to business entities with EINs and is available for a fee at Dun and Bradstreet's Web site at http://www.dnb.com/us/.

Regulatory Changes

To ensure the confidentiality of the USPPI's and the U.S. authorized agent's personal information and to comply with the Privacy Act of 1974 and OMB guidance, the Census Bureau is amending relevant sections of the Foreign Trade Regulations (FTR) to specify the requirements for the reporting of an EIN, or DUNS in place of a Social Security Number for identification purposes in the AES.

The Census Bureau is amending the following sections of the FTR:

• Section 30.1(c) definition for Party ID type is revised to eliminate the SSN.

• Sections 30.3(a) and 30.3(e) are revised to eliminate the requirement of reporting the SSN in the AES.

• Sections 30.6(a) and 30.6(b) are revised to eliminate the SSN as an option for the USPPI and U.S. authorized agent identification number.

The U.S. Department of State and U.S. Department of Homeland Security concur with the provisions contained in this Final Rule.

Rulemaking Requirements

Administrative Procedure Act

The Census Bureau finds good cause pursuant to Title 5, United States Code, (U.S.C.), 553(b)(B) to waive prior notice and opportunity for public comment as it is impracticable and contrary to the public interest. To ensure the confidentiality of the USPPI and the U.S. authorized agent's personal information and to comply with the Privacy Act of 1974, Title 5, U.S.C., Section 552a, the Census Bureau is amending appropriate sections of the Foreign Trade Regulations (FTR) to eliminate the reporting of the Social Security Number (SSN) by USPPIs and U.S. authorized agents. If this rule were delayed to allow for notice and opportunity for public comment, USPPIs and U.S. authorized agents would continue to be required to submit their SSN to the Census Bureau if they do not have an EIN or DUNS. Therefore, in order to maintain the security of personal information, and to comply with the Privacy Act of 1974, Title 5, U.S.C., Section 552a, the Census Bureau has determined that it will make this rule effective on September 4, 2009.

Regulatory Flexibility Act

Since notice and opportunity for comment are not required pursuant to Title 5, U.S.C., Section 553, or any other law, the analytical requirements of the Regulatory Flexibility Act are inapplicable. Therefore, a final regulatory flexibility analysis is not required and one has not been prepared.

Executive Orders

This rule has been determined to be not significant for purposes of Executive Order 12866. It has been determined that this rule does not contain policies with Federalism implications as that term is defined under Executive Order 13132.

Paperwork Reduction Act

The collection of information required in this final rule has been approved by the Office of Management and Budget (OMB) under the Paperwork Reduction Act (PRA). This rule amends a collection of information subject to the requirements of the PRA, Title 44, U.S.C., Chapter 35, which has been approved under OMB control number 0607-0152. The reporting and recordkeeping burden for this requirement is estimated at three total burden minutes per AES filing. Notwithstanding any other provision of law, no person is required to respond to, nor shall a person be subject to a penalty for failure to comply with, a collection of information subject to the requirements of the PRA, unless that collection of information displays a current, valid OMB control number.

List of Subjects in 15 CFR Part 30

Economic statistics, Exports, Foreign trade, Reporting and Recordkeeping requirements.

For the reasons set out in the preamble, Title 15, CFR part 30, is amended as follows:

PART 30—FOREIGN TRADE REGULATIONS

Subpart A—General Requirements

1. The authority citation for Part 30 continues to read as follows:

Authority: 5 U.S.C. 301; 13 U.S.C. 301-307; Reorganization Plan 5 of 1990 (3 CFR 1949-1953 Comp., p.1004); Department of Commerce Organization Order No. 35-2A, July 22, 1987, as amended, and No. 35-2B, December 20, 1996, as amended; and Public Law 107-228, 116 Stat.1350.

2. In § 30.1 (c), revise the definition “Party ID type” to read as follows:

§ 30.1 Purpose and definitions.

* * * * *

(c) * * *

Party ID type. Identifies whether the Party ID is an EIN, DUNS, or Foreign Entity reported to the AES, for example, E=EIN, D=DUNS, T=Foreign Entity.

* * * * *

3. In § 30.3, revise paragraphs (a), (e)(1)(ii), and (e)(2)(vi) to read as follows:

§ 30.3 Electronic Export Information filer requirements, parties to export transactions, and responsibilities of parties to export transactions.

(a) General requirements. The filer of EEI for export transactions is either the USPPI, or the U.S. authorized agent. All EEI submitted to the AES shall be complete, correct, and based on personal knowledge of the facts stated or on information furnished by the parties to the export transaction. The filer shall be physically located in the United States at the time of filing, have an EIN or DUNS and be certified to report in the AES. In the event that the filer does not have an EIN or DUNS, the filer must obtain an EIN from the Internal Revenue Service. The filer is responsible for the truth, accuracy, and completeness of the EEI, except insofar as that party can demonstrate that it reasonably relied on information furnished by other responsible persons participating in the transaction. All parties involved in export transactions, including U.S. authorized agents, should be aware that invoices and other commercial documents may not necessarily contain all the information needed to prepare the EEI. The parties shall ensure that all information needed for reporting to the AES, including correct export licensing information, is provided to the U.S. authorized agent for the purpose of correctly preparing the EEI.

* * * * *

(e) * * *

(1) * * *

(ii) USPPI's EIN or DUNS

* * * * *

(2) * * *

(vi) EIN or DUNS of the authorized agent.

* * * * *

4. In § 30.6, revise paragraphs (a)(1)(iii) and (b)(1)(i) to read as follows:

§ 30.6 Electronic Export Information data elements.

* * * * *

(a) * * *

(1) * * *

(iii) USPPI identification number. The USPPI shall report its own IRS EIN in the USPPI field of the EEI. If the USPPI has only one EIN, report that EIN. If the USPPI has more than one EIN, report the EIN that the USPPI uses to report employee wages and withholdings, and not the EIN that is used to report only company earnings or receipts. If the USPPI does not have an EIN, the USPPI must obtain an EIN for reporting to the AES. Use of another company's or individual's EIN or other identification number is prohibited. The appropriate Party type code shall be reported through the AES. When a foreign entity is in the United States when the items are purchased or obtained for export, the foreign entity is the USPPI for filing purposes. In such situations, the foreign entity shall report a DUNS, border crossing number, passport number, or any number assigned by CBP.

* * * * *

(b) * * *

(1) * * *

(i) U.S. Authorized agent's identification number. Report the U.S. authorized agent's own EIN or DUNS for the first shipment and for each subsequent shipment. Use of another company's or individual's EIN or other identification number is prohibited. The party ID type of agent identification (E=EIN, D=DUNS) shall be indicated.

* * * * *

Dated: July 30, 2009.
Robert M. Groves,
Director, Bureau of the Census.

[FR Doc. E9-18728 Filed 8-4-09; 8:45 am]

BILLING CODE 3510-07-P